DEPARTMENT OF THE INTERIOR

Bureau of Land Management

[212 LLOR930000 L16100000.DF0000]

Notice of Availability of the Legal Description and Maps Depicting Oregon and California Railroad Revested Lands, Oregon

AGENCY: Bureau of Land Management, Interior.

ACTION: Notice of availability.

SUMMARY: In accordance with the Western Oregon Tribal Fairness Act, the Bureau of Land Management (BLM) is providing notice of the availability of the legal description and maps depicting Oregon and California Railroad Revested (O&C) lands in western Oregon that were conveyed to two tribes in 2018, and other public domain lands in western Oregon that were reclassified as O&C lands in 2020.

ADDRESSES: The maps are available for public inspection electronically at https://eplanning.blm.gov/eplanning-ui/project/121073/570.

FOR FURTHER INFORMATION CONTACT: Paul Tigan, Field Manager, Bureau of Land Management, Northwest Oregon District, 1717 Fabry Road SE, Salem, Oregon, 97306; telephone: 971-600-7366; email: pdtigan@blm.gov. Persons who use a telecommunications device for the deaf (TDD) may call the Federal Relay Service (FRS) at 1(800) 877-8339 to contact Mr. Tigan. The FRS is available 24 hours a day, 7 days a week, to leave a message or question. You will receive a reply during normal business hours.

SUPPLEMENTARY INFORMATION: As required by the Western Oregon Tribal Fairness Act (Pub. L. 115-103) (WOTFA), the BLM reclassified public domain lands under its administration in western Oregon as O&C lands (43 U.S.C. 2601 et seq.). Section 102 of the WOTFA conveyed BLM-administered lands to the Cow Creek Band of the Umpqua Tribe of Indians and Section 202 of the WOTFA conveyed BLM-administered lands to the Confederated Tribes of Coos, Lower Umpqua and Siuslaw Indians. Sections 105 and 205 of the WOTFA required the BLM to reclassify public domain lands as O&C lands in approximately equal acreage and condition as the conveyed O&C lands. In accordance with sections 105(c) and 205(c) of the WOTFA, the BLM has prepared maps depicting the conveyed lands. Also, in accordance with sections 105(c) and 205(c) of the WOTFA, the BLM has prepared maps depicting the reclassified lands.

As required by the WOTFA, the BLM provided opportunity for public comment prior to finalizing the identification of the reclassified lands. Public comment opportunities included a 30-day public scoping period and a 30-day public comment period on the environmental assessment developed by the BLM to assess alternatives for potential lands for reclassification.

The maps described herein have been submitted to Congress and are available for public inspection (see ADDRESSES).

(Authority: P.L. 115-103, 131 STAT. 2253)

Barry R. Bushue,
BLM Oregon/Washington State Director.

[FR Doc. 2021-17663 Filed 8-17-21; 8:45 am]

BILLING CODE 4310-33-P